DEPARTMENT OF COMMERCE

International Trade Administration

[A-533-843]

Certain Lined Paper Products From India: Final Results of Antidumping Duty Administrative Review and Final Determination of No Shipments; 2021-2022

AGENCY: Enforcement and Compliance, International Trade Administration, Department of Commerce.

SUMMARY: The U.S. Department of Commerce (Commerce) determines that ITC Limited made sales of subject merchandise in the United States at prices below normal value (NV), and Navneet Education Ltd. (Navneet) did not, during the period of review (POR) September 1, 2021, through August 31, 2022.

DATES: Applicable April 15, 2024.

FOR FURTHER INFORMATION CONTACT: Samuel Brummitt or Katherine Sliney, AD/CVD Operations, Office III, Enforcement and Compliance, International Trade Administration, U.S. Department of Commerce, 1401 Constitution Avenue NW, Washington, DC 20230; telephone: (202) 482-7851 or (202) 482-2437, respectively.

SUPPLEMENTARY INFORMATION:

Background

On October 5, 2023, Commerce published the Preliminary Results for this review in the Federal Register and invited interested parties to comment on those results.¹ For a summary of the events that occurred since the Preliminary Results, see the Issues and Decision Memorandum.² Commerce conducted this administrative review in accordance with section 751 of the Tariff Act of 1930, as amended (the Act).

¹ See Certain Lined Paper Products from India: Preliminary Results of Antidumping Duty Administrative Review; and Preliminary Determination of No Shipments; 2021-2022, 88 FR 69125 (October 5, 2023) (Preliminary Results), and accompanying Preliminary Decision Memorandum (PDM).

² See Memorandum, “Decision Memorandum for the Final Results of Antidumping Duty Administrative Review: Certain Lined Paper Products from India; 2021-2022,” dated concurrently with, and hereby adopted by, this notice (Issues and Decision Memorandum).

Scope of the Order ³

³ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (Order).

The products covered by this Order are certain lined paper products from India. For a complete description of the scope, see the Issues and Decision Memorandum.

Final Determination of No Shipments

As noted in the Preliminary Results, we received no-shipment claims from Dinakar Process Private Limited (Dinakar), JC Stationery (P) Ltd (JC Stationery), and M/s. Bhaskar Paper Products (Bhaskar), and we preliminarily determined that JC Stationery and Bhaskar had no shipments during the POR.⁴

⁴ See Preliminary Results, 88 FR at 69126.

Information on the record regarding U.S. Custom and Border Protection (CBP) entry data showed that Dinakar had suspended entries into the United States.⁵ Additionally, CBP reported information that contradicted Dinakar's no-shipment claim.⁶ Prior to the Preliminary Results, Commerce requested that Dinakar and ITC Limited ⁷ correct customs entry forms that Dinakar and ITC Limited claim were filed incorrectly.⁸ Commerce preliminarily determined that the record did not support a finding of no shipments for Dinakar.⁹

⁵ See Commerce's Letter dated April 3, 2023 (ACCESS barcode 4361597-01); see also Memorandum, “Respondent Selection,” dated February 6, 2023, at Attachment.

⁶ See Memorandum, “Release of U.S. Customs and Border Protection Information Relating to December 22, 2022 Entry Document Request,” dated January 17, 2023.

⁷ Commerce noted in the Preliminary Results that we initiated this review on “ITC Limited-Education and Stationery Products Business” (ITC-ESPB), but record evidence indicates that ITC-ESPB is not a company but is merely a department of ITC Limited. Accordingly, ITC Limited is the entity subject to this review, not ITC-ESPB. There is no additional information on this record or arguments from parties following the Preliminary Results that would lead Commerce to reevaluate this determination.

⁸ See Commerce's Letter dated March 9, 2023 (ACCESS barcode 4351661-01).

⁹ See Preliminary Results, 88 FR at 69125.

Following the Preliminary Results, Commerce again requested that Dinakar and ITC Limited provide information that the entry documentation that the parties claimed incorrectly listed Dinakar as the exporter or manufacturer of entries into the United States during the POR was revised.¹⁰ Dinakar and ITC Limited were unable to demonstrate that the entry documents were revised to remove Dinakar as the exporter of subject entries into the United States during the POR.¹¹ Accordingly, Commerce determines that the record does not support a finding of no shipments for Dinakar.

¹⁰ See Commerce's Letters, “Supplemental Questionnaire,” dated November 3, 2023. (There were letters with identical titles issued separately to Dinakar and to ITC Limited on this date.)

¹¹ See Issues and Decision Memorandum at Comment 2.

Following the publication of the Preliminary Results, we received no comments from interested parties regarding JC Stationery and Bhaskar, nor has any party submitted record evidence which would call our preliminary determinations of no shipments for these two companies into question. Therefore, for the final results, we continue to find that JC Stationery and Bhaskar had no shipments of subject merchandise during the POR. Accordingly, consistent with Commerce's practice, we intend to instruct CBP to liquidate any existing entries of merchandise produced by JC Stationery and Bhaskar, but exported by other parties, at the rate for the intermediate reseller, if available, or at the all-others rate.¹²

¹² See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Rates for Companies Not Selected for Individual Examination

For the rate for non-selected respondents in an administrative review, generally, Commerce looks to section 735(c)(5) of the Act, which provides instructions for calculating the all-others rate in a market economy investigation. Under section 735(c)(5)(A) of the Act, the all-others rate is normally “an amount equal to the weighted average of the estimated weighted average dumping margins established for exporters and producers individually investigated, excluding any zero or de minimis margins, and any margins determined entirely {on the basis of facts available}.”

In this segment of the proceeding, because the rate calculated for Navneet is zero, we have assigned a dumping margin to the companies not selected for individual review based on the weighted-average dumping margin calculated for ITC Limited.

Analysis of Comments Received

All issues raised by parties in the case and rebuttal briefs are addressed in the Issues and Decision Memorandum. A list of the issues addressed in the Issues and Decision Memorandum is included in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

We made no changes to the Preliminary Results based on comments from interested parties.

Final Results of the Review

As a result of this administrative review, Commerce determines that the following estimated weighted-average dumping margins exist for the period, September 1, 2021, through August 31, 2022:

Exporter/producer | Weighted- average dumping margin (percent)
ITC Limited | 23.16
Navneet Education Ltd | 0.00
Cellpage Ventures Private Limited | 23.16
Dinakar Process Private Limited | 23.16
Lotus Global Private Limited | 23.16
Pioneer Stationery Private Limited | 23.16
PP Bafna Ventures Private Limited | 23.16
SGM Paper Products | 23.16

Disclosure

Normally, Commerce will disclose to interested parties the calculations performed in connection with the final results of review withing five days of any public announcement or, if there is no public announcement, within five days of the date of publication of this notice in the Federal Register, in accordance with 19 CFR 351.224(b). However, because we have made no changes to the Preliminary Results, there are no new calculations to disclose.

Assessment Rates

Pursuant to section 751(a)(2)(C) of the Act and 19 CFR 351.212(b), Commerce will determine, and CBP shall assess, antidumping duties on all appropriate entries of subject merchandise in accordance with the final results of this review. Pursuant to 19 CFR 351.212(b)(1), for ITC Limited and Navneet Education Ltd., we calculated importer-specific antidumping duty assessment rates by aggregating the total amount of dumping calculated for the examined sales of each importer and dividing each of these amounts by the total entered value associated with those sales. Where either the respondent's weighted-average dumping margin is zero or de minimis within the meaning of 19 CFR 351.106(c)(1), or an importer-specific assessment rate is zero or de minimis, we will instruct CBP to liquidate the appropriate entries without regard to antidumping duties.

Commerce's “automatic assessment” will apply to entries of subject merchandise during the POR for which the examined companies did not know that the merchandise they sold to an intermediary (e.g., a reseller, trading company, or exporter) was destined for the United States. In such instances, we will instruct CBP to liquidate unreviewed entries at the all-others rate if there is no rate for the intermediate company(ies) involved in the transaction.

Further, the assessment rate for antidumping duties for each of the companies not selected for individual examination will be equal to the weighted-average dumping margin identified above in the “Final Results of the Review.” Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements for estimated antidumping duties will be effective for all shipments of subject merchandise entered, or withdrawn from warehouse, for consumption on or after the publication date of the final results of this administrative review, as provided by section 751(a)(2)(C) of the Act: (1) the cash deposit rates for the companies identified above in the “Final Results of the Review” section will be equal to the company-specific weighted-average dumping margin established in the final results of this administrative review; (2) for merchandise exported by a company not covered in this administrative review but covered in a completed prior segment of the proceeding, the cash deposit rate will continue to be the company-specific rate published for the most recently completed segment of this proceeding; (3) if the exporter is not a firm covered in this review or completed prior segment of this proceeding but the producer is, the cash deposit rate will be the company-specific rate established in the completed segment for the most recent period for the producer of the merchandise; and (4) the cash deposit rate for all other producers or exporters will continue to be 3.91 percent ad valorem, the all-others rate established in the investigation of this proceeding.¹³ These cash deposit requirements, when imposed, shall remain in effect until further notice.

¹³ See Order.

Notification to Importers

This notice serves as a final reminder to importers of their responsibility under 19 CFR 351.402(f)(2) to file a certificate regarding the reimbursement of antidumping and/or countervailing duties prior to liquidation of the relevant entries during this POR. Failure to comply with this requirement could result in the Commerce's presumption that reimbursement of antidumping and/or countervailing duties has occurred and the subsequent assessment of double antidumping duties and/or an increase in the amount of antidumping duties by the amount of the countervailing duties.

Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h)(1).

Dated: March 28, 2024.
Abdelali Elouaradia,
Deputy Assistant Secretary for Enforcement and Compliance.

Appendix—List of Topics Discussed in the Issues and Decision Memorandum

I. Summary

II. Background

III. Scope of the Order

IV. Discussion of the Issues

Comment 1: Whether Navneet's E-Commerce Sales Were Made at the Same Level of Trade as its Home Market Sales in Channels Two, Three, Four, and Five

Comment 2: Whether Commerce Should Continue to Find Dinakar Process Private Limited Subject to this Review

V. Recommendation

[FR Doc. 2024-07904 Filed 4-12-24; 8:45 am]

BILLING CODE 3510-DS-P